DEPARTMENT OF HEALTH AND HUMAN SERVICES

Substance Abuse and Mental Health Services Administration

Notice of Meetings

Pursuant to Public Law 92-463, notice is hereby given of a joint meeting of the Substance Abuse and Mental Health Services Administration (SAMHSA) five advisory committees (SAMHSA National Advisory Council, Center for Mental Health Services National Advisory Council, Center for Substance Abuse Prevention National Advisory Council, Center for Substance Abuse Treatment National Advisory Council, and the Advisory Committee for Women's Services) in May 2000.

The organizing theme of the Year 2000 Joint Council Meeting is “Spirit of Collaboration from Prevention through Treatment.” The session on May 10 will be open and will include presentations by several representatives from the Department of Health and Human Services Programs. On May 11, there will be presentations by the U.S. Department of Education and the Department of Justice, a presentation on the effects of the Olmstead Decision and its relationship to the Institute for Mental Disease exclusion, a presentation on economic analysis and depression and an update on the National Congress for Hispanic Mental Health.

Attendance by the public will be limited to space available. Public comments are welcome, and interested persons may present information or views, orally or in writing, on issues pending before the committees. Those desiring to make formal presentations should contact Toian Vaughn, Executive Secretary, Office of Extramural Programs, SAMHSA, 5600 Fishers Lane, Room 12C-06, Rockville, Maryland 20857, prior to April 28, 2000, and submit a brief statement of: the general nature of the information or arguments they wish to present, the names, addresses, and telephone number of proposed participants, identification of organizational affiliation, and an indication of the approximate time required to make their comments. Time for presentations may be limited by the number of requests. Photocopies, up to five pages of material, may be distributed at the meeting through the SAMHSA National Advisory Council Executive Secretary, if provided by April 28.

A summary of the meeting and/or a roster of committee members may be obtained from Toian Vaughn, Executive Secretary, SAMHSA National Advisory Council, 5600 Fishers Lane, Room 17-89, Rockville, Maryland 20857. Telephone (301) 443-4266, e-mail: tvaughn@samhsa.gov.

Substantive program information and information pertaining to special accommodations for persons with disabilities may be obtained from the contact whose name and telephone number are listed below.

Committee Names: Substance Abuse and Mental Health Services Administration National Advisory Council, Center for Mental Health Services National Advisory Council, Center for Substance Abuse Prevention National Advisory Council, Center for Substance Abuse Treatment National Advisory Council, Advisory Committee for Women's Services.

Meeting Date(s): May 10-11, 2000.

Place: Bethesda Marriott Pooks Hill Hotel, 5151 Pooks Hill Road, Bethesda, Maryland 20814.

Open: May 10, 2000, 1 p.m.—5:30 p.m.; May 11, 2000, 8:30 a.m.—5:00 p.m.

Contact: Toian Vaughn, M.S.W., Executive Secretary, SAMHSA National Advisory Council, 5600 Fishers Lane, Room 17-89, Rockville, Maryland 20857, Telephone (301) 443-4266.

Dated: April 18, 2000.
Toian Vaughn,
Committee Management Officer/Executive Secretary, Substance Abuse and Mental Health Services Administration.

[FR Doc. 00-10360 Filed 4-25-00; 8:45 am]

BILLING CODE 4162-20-M